DEPARTMENT OF ENERGY

Federal Energy Regulatory Commission

Combined Notice of Filings #2

Take notice that the Commission received the following electric corporate filings:

Docket Numbers: EC12-120-000.

Applicants: Pacific Wind, LLC, Pacific Wind Lessee, LLC.

Description: Supplemental information regarding Application of Pacific Wind, LLC and Pacific Wind Lessee, LLC.

Filed Date: 7/23/12.

Accession Number: 20120723-5060.

Comments Due: 5 p.m. ET 8/2/12.

Docket Numbers: EC12-123-000.

Applicants: Public Power, LLC, Regional Energy Holdings, Inc.

Description: Application under Section 203 of the Federal Power Act of Public Power, LLC, et al.

Filed Date: 7/20/12.

Accession Number: 20120720-5179.

Comments Due: 5 p.m. ET 8/10/12.

Docket Numbers: EC12-123-000.

Applicants: Public Power, LLC, Regional Energy Holdings, Inc.

Description: Erratum to July 20, 2012 Application for Order under Section 203 of the FPA of Regional Energy Holdings, Inc. and Public Power, LLC.

Filed Date: 7/23/12.

Accession Number: 20120723-5061.

Comments Due: 5 p.m. ET 8/10/12.

Docket Numbers: EC12-124-000.

Applicants: The Detroit Edison Company.

Description: FPA Section 203 Application of The Detroit Edison Company.

Filed Date: 7/23/12.

Accession Number: 20120723-5115.

Comments Due: 5 p.m. ET 8/13/12.

Take notice that the Commission received the following electric rate filings:

Docket Numbers: ER12-2287-000.

Applicants: Southern California Edison Company.

Description: Notice of Cancellation of Letter Agreement with Alta Windpower Development, LLC to be effective 12/30/2011.

Filed Date: 7/23/12.

Accession Number: 20120723-5065.

Comments Due: 5 p.m. ET 8/13/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 23, 2012.
Nathaniel J. Davis, Sr.,
Deputy Secretary.

[FR Doc. 2012-18608 Filed 7-30-12; 8:45 am]

BILLING CODE 6717-01-P